COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be furnished by nonprofit agencies employing persons who are blind or have other severe disabilities, and deletes a product and services previously furnished by such agencies.

DATES: Comments must be received on or before: March 22, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed addition, the entities of the Federal Government identified in this notice will be required to procure the service listed below from nonprofit agencies employing persons who are blind or have other severe disabilities.

The following service is proposed for addition to the Procurement List for production by the nonprofit agencies listed:

Service

Service Type: Mess Attendant Service

Mandatory for: US Air Force, Barksdale Air Force Base, LA

Mandatory Source of Supply: Global Connections to Employment, Inc., Pensacola, FL

Contracting Activity: DEPT OF THE AIR FORCE, Air Force Nonappropriated Funds Purchasing Office, San Antonio, TX

Deletions

The following product and services are proposed for deletion from the Procurement List:

Product

NSN—Product Name:

7530-01-515-7899—Paper, Printer, Ink Jet, Photo Quality, Glossy, Letter, 89 Bright White

Mandatory Source of Supply: Wiscraft, Inc., Milwaukee, WI

Contracting Activity: GSA/FAS ADMIN SVCS ACQUISITION BR(2, NEW YORK, NY

Services

Service Type: Switchboard Operation

Mandatory for: Veterans Affairs Medical Center: 3601 South 6th Avenue, Tucson, AZ

Mandatory Source of Supply: Southern Arizona Association for the Visually Impaired deleted, Tucson, AZ

Contracting Activity: VETERANS AFFAIRS, DEPARTMENT OF, NAC

Service Type: Janitorial/Custodial

Mandatory for: Hoffman I Building: 2461 Eisenhower Avenue, Alexandria, VA

Mandatory Source of Supply: Melwood Horticultural Training Center, Inc., Upper Marlboro, MD

Contracting Activity: DEPT OF DEFENSE, DOD/OFF OF SECRETARY OF DEF (EXC MIL DEPTS)

Service Type: Janitorial/Custodial

Mandatory for: U.S. Army Reserve Center: 5300 Jack Gibb Blvd., Columbus, OH

Mandatory Source of Supply: Licking-Knox Goodwill Industries, Inc., Newark, OH

Contracting Activity: DEPT OF THE ARMY, W6QM MICC FT MCCOY (RC)

Service Type: Janitorial/Grounds Maintenance

Mandatory for: U.S. Army Reserve Center: Hilo, Hilo, HI

Mandatory Source of Supply: The ARC of Hilo, Hilo, HI

Contracting Activity: DEPT OF THE ARMY, 0413 AQ HQ

Service Type: Administrative Services

Mandatory for: U.S. Federal Building and Courthouse: Poff, Roanoke, VA

Mandatory Source of Supply: Goodwill Industries of the Valleys, Inc., Roanoke, VA

Contracting Activity: PUBLIC BUILDINGS SERVICE, GSA/PBS/R03 REGIONAL CONTRACTS SUPPORT SERVICES SECTION

Service Type: Shadow Boarding

Mandatory for: Anniston Army Depot: 7 Frankford Avenue, Bldg 221, Anniston, AL

Mandatory Source of Supply: UNKNOWN

Contracting Activity: DEPT OF THE ARMY, W0LX ANNISTON DEPOT PROP DIV

Service Type: Grounds Maintenance

Mandatory for: U.S. Army Reserve Center: Caesar Creek Lake, Caesar Creek Lake, OH

Mandatory Source of Supply: UNKNOWN

Contracting Activity: DEPT OF THE ARMY, W40M RHCO-ATLANTIC USAHCA

Service Type: Janitorial/Custodial

Mandatory for: Special Mental Health Clinic, Grand Rapids, MI

Mandatory for: VA, Grand Rapids Community Based Outpatient Clinic, Grand Rapids, MI

Mandatory Source of Supply: Hope Network Services Corporation, Grand Rapids, MI

Contracting Activity: VETERANS AFFAIRS, DEPARTMENT OF, 610-MARION

Service Type: Management Services

Mandatory for: Department of Housing & Urban Development, Seattle, WA

Mandatory Source of Supply: Pacific Coast Community Services, Richmond, CA

Contracting Activity: HOUSING AND URBAN DEVELOPMENT, DEPARTMENT OF, DEPT OF HOUSING AND URBAN DEVELOPMENT

Service Type: Janitorial/Custodial

Mandatory for: Greensburg AMSA, Greensburg, PA

Mandatory for: AMSA #106, Punxsutawney, PA

Contracting Activity: DEPT OF THE ARMY, W6QM MICC CTR-FT DIX (RC)

Service Type: Janitorial/Custodial

Mandatory for: James A. Haley Veterans Hospital, Tampa, FL

Contracting Activity: VETERANS AFFAIRS, DEPARTMENT OF, NAC

Service Type: Mailroom Operation, Operation of Supply Room

Mandatory for: US Army Corps of Engineers, Estes Kefauver Building, Nashville, TN

Contracting Activity: DEPT OF THE ARMY, W072 ENDIST NASHVILLE

Service Type: Mailroom Operation

Mandatory for: US Army Corps of Engineers, Estes Kefauver Bldg, Nashville, TN

Contracting Activity: DEPT OF THE ARMY, W072 ENDIST NASHVILLE

Service Type: Mailroom Operations

Mandatory for: U.S. Geological Survey, Menlo Park Science Center, Menlo Park, CA

Mandatory Source of Supply: Hope Services, San Jose, CA

Contracting Activity: GEOLOGICAL SURVEY, OFFICE OF ACQUISITION AND GRANTS—SACRAMENTO

Service Type: Laundry Service

Mandatory for: James H. Quillen VA Medical Center, Mountain Home, TN

Contracting Activity: VETERANS AFFAIRS, DEPARTMENT OF, NAC

Service Type: Janitorial/Custodial

Mandatory for: Kennesaw National Battlefield Park Visitor Center, Kennesaw, GA

Mandatory Source of Supply: Nobis Enterprises, Inc., Marietta, GA

Contracting Activity: OFFICE OF POLICY, MANAGEMENT, AND BUDGET, NBC ACQUISITION SERVICES DIVISION

Service Type: Grounds Maintenance

Mandatory for: District Ranger Office Building & Wahweap Housing: Unit, Glen Canyon National Recreation Area, Page, AZ

Contracting Activity: OFFICE OF POLICY, MANAGEMENT, AND BUDGET, NBC ACQUISITION SERVICES DIVISION

Service Type: Janitorial/Custodial

Mandatory for: Biscayne National Park, Dade County, FL

Contracting Activity: OFFICE OF POLICY, MANAGEMENT, AND BUDGET, NBC ACQUISITION SERVICES DIVISION

Service Type: Warehousing & Distribution Service

Mandatory for: Internal Revenue Service Business Operations Offices: 333 Market Street, San Francisco, CA

Mandatory Source of Supply: Bobby Dodd Institute, Inc., Atlanta, GA

Contracting Activity: TREASURY, DEPARTMENT OF THE, DEPT OF TREAS

Service Type: Grounds Maintenance

Mandatory for: U.S. Army Reserve Facility: 8801 N Chautauqua Boulevard Sharff Hall, West, Portland, OR

Mandatory Source of Supply: Relay Resources, Portland, OR

Contracting Activity: DEPT OF THE ARMY, W40M RHCO-ATLANTIC USAHCA

Service Type: Grounds Maintenance

Mandatory for: U.S. Army Reserve Facility: 2731 SW Multnomah Boulevard, Sears Hall, South, Portland, OR

Mandatory Source of Supply: Relay Resources, Portland, OR

Contracting Activity: DEPT OF THE ARMY, W40M RHCO-ATLANTIC USAHCA

Service Type: Janitorial/Custodial

Mandatory for: U.S. Army Reserve Center: 4th & Hiller Street, Brownsville, PA

Mandatory Source of Supply: UNKNOWN

Contracting Activity: DEPT OF THE ARMY, W6QM MICC CTR-FT DIX (RC)

Service Type: Janitorial/Custodial

Mandatory for: U.S. Army Reserve Center: 254 McClellandtown Road, Uniontown, PA

Contracting Activity: DEPT OF THE ARMY, W6QM MICC CTR-FT DIX (RC)

Service Type: Janitorial/Custodial

Mandatory for: U.S. Army Reserve Center: 900 Armory Drive, Greensburg, PA

Contracting Activity: DEPT OF THE ARMY, W6QM MICC CTR-FT DIX (RC)

Service Type: Janitorial/Custodial

Mandatory for: Veterans Affairs Medical Center: Outpatient Clinic, Orlando, FL

Contracting Activity: VETERANS AFFAIRS, DEPARTMENT OF, NAC

Service Type: Administrative Services

Mandatory for: Department of Veterans Affairs, James A. Quillen VA Medical Center, Mountain Home, TN

Contracting Activity: VETERANS AFFAIRS, DEPARTMENT OF, 621-MOUNTAIN HOME

Service Type: Mailroom Operation

Mandatory for: Immigration & Customs Enforcement, 1100 Center Parkway, Atlanta, GA

Mandatory Source of Supply: Bobby Dodd Institute, Inc., Atlanta, GA

Contracting Activity: U.S. IMMIGRATION AND CUSTOMS ENFORCEMENT, MISSION SUPPORT ORLANDO

Service Type: Mailroom Operation

Mandatory for: Immigration & Customs Enforcement, 180 Spring Street SW, Atlanta, GA

Mandatory Source of Supply: Bobby Dodd Institute, Inc., Atlanta, GA

Contracting Activity: U.S. IMMIGRATION AND CUSTOMS ENFORCEMENT, MISSION SUPPORT ORLANDO

Service Type: Mailroom Operation

Mandatory for: Immigration & Customs Enforcement, 2150 Park Lake Drive, Atlanta, GA

Mandatory Source of Supply: Bobby Dodd Institute, Inc., Atlanta, GA

Contracting Activity: U.S. IMMIGRATION AND CUSTOMS ENFORCEMENT, MISSION SUPPORT ORLANDO

Service Type: Administrative Support

Mandatory for: USDA Forest Service: 4931 Broad River Road, Columbia, SC

Mandatory Source of Supply: UNKNOWN

Contracting Activity: FOREST SERVICE, DEPT OF AGRIC/FOREST SERVICE

Service Type: Janitorial/Custodial

Mandatory for: Tupelo Visitors Center and Headquarters: Natchez Trace Parkway, Tupelo, MS

Contracting Activity: OFFICE OF POLICY, MANAGEMENT, AND BUDGET, NBC ACQUISITION SERVICES DIVISION

Service Type: Food Service Attendant

Mandatory for: Veterans Affairs Medical Center: Corner of Lamont and Sydney Streets, Mountain Home, TN

Contracting Activity: VETERANS AFFAIRS, DEPARTMENT OF, 249P-NETWORK CONTRACT OFFICE 9

Service Type: Administrative Services

Mandatory for: Building 8-1078, 1-3571, C-7417, 8-6643, Fort Bragg, NC

Mandatory Source of Supply: ServiceSource, Inc., Oakton, VA

Contracting Activity: DEPT OF THE ARMY, W6QM MICC FDO FT BRAGG

Service Type: Janitorial/Custodial

Mandatory for: Illinois Waterway Visitor Center: Dee Bennett Road, Utica, IL

Mandatory Source of Supply: UNKNOWN

Contracting Activity: DEPT OF THE ARMY, W40M RHCO-ATLANTIC USAHCA

Service Type: Grounds Maintenance

Mandatory for: U.S. Army Reserve Center: 271 Hedges Street, Scouten, Mansfield, OH

Contracting Activity: DEPT OF THE ARMY, W6QM MICC FT MCCOY (RC)

Service Type: Janitorial/Custodial

Mandatory for: Vice President Living Quarters: Naval Observatory, Washington, DC

Mandatory Source of Supply: Melwood Horticultural Training Center, Inc., Upper Marlboro, MD

Contracting Activity: FEDERAL PRISON SYSTEM, TERMINAL ISLAND, FCI

Service Type: Janitorial/Custodial

Mandatory for: Defense National Stockpile Depot: Hoyt Avenue, Binghamton, NY

Contracting Activity: DEFENSE LOGISTICS AGENCY, DEFENSE NATIONAL STOCKPILE CENTER

Service Type: Laundry Service

Mandatory for: Yakima Training Center, Yakima, WA

Mandatory Source of Supply: Yakima Specialties, Inc., Yakima, WA

Contracting Activity: DEPT OF THE ARMY, W40M RHCO-ATLANTIC USAHCA

Michael R. Jurkowski,
Deputy Director, Business & PL Operations.

[FR Doc. 2020-03498 Filed 2-20-20; 8:45 am]

BILLING CODE 6353-01-P